DEPARTMENT OF ENERGY

Federal Energy Regulatory Commission

[Docket No. CP15-521-000]

Gulf LNG Liquefaction Company, LLC, Gulf LNG Energy, LLC, Gulf LNG Pipeline, LLC; Notice of Anticipated Schedule of Final Order for the Gulf LNG Liquefaction Project

On June 19, 2015, Gulf LNG Liquefaction Company, LLC (Gulf Liquefaction), Gulf LNG Energy, LLC (Gulf Energy), and Gulf LNG Pipeline LLC (Gulf Pipeline) filed an application pursuant to section 3(a) of the Natural Gas Act (NGA) and Part 153 of the Commission's regulations, requesting authorization to construct and operate the Gulf LNG Liquefaction Project (Project) at Gulf Energy's liquefied natural gas terminal located near Pascagoula, Jackson County, Mississippi. The Project consists of new natural gas liquefaction and export facilities. Additionally, within the same application, Gulf Pipeline requested, pursuant to section 7(c) of the NGA and Part 157 of the Commission's regulations, to make modifications to the terminal's sendout pipeline to allow for bi-directional flow. These facilities will enable Gulf Liquefaction to liquefy and export about 11 million metric tons of LNG per year.

In accordance with Title 41 of the Fixing America's Surface Transportation Act, enacted on December 4, 2015, agencies are to publish completion dates for all federal environmental reviews and authorizations. This notice identifies the Commission's anticipated schedule for issuance of the final order for the Project, which is based on the anticipated date of issuance of the final Environmental Impact Statement. Accordingly, we currently anticipate issuing a final order for the Project no later than:

Issuance of Final Order—July 16, 2019

If a schedule change becomes necessary for the final order, an additional notice will be provided so that interested parties and government agencies are kept informed of the Project's progress.

Dated: August 31, 2018.
Nathaniel J. Davis, Sr.,
Deputy Secretary.

[FR Doc. 2018-19387 Filed 9-6-18; 8:45 am]

BILLING CODE 6717-01-P